DEPARTMENT OF THE TREASURY

Submission for OMB Review; Comment Request

May 20, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

DATES: Written comments should be received on or before July 2, 2003, to be assured of consideration.

Internal Revenue Service (IRS)

OMB Number: 1545-0205.

Form Number: IRS Form 5452.

Type of Review: Revision.

Title: Corporate Report of Nondividend Distributions.

Description: Form 5452 is used by corporations to report their nontaxable distributions as required by Internal Revenue Code (IRC) 6042(d)(2). The information is used by IRS to verify that the distributions are nontaxable as claimed.

Respondents: Business or other for-profit, Farms.

Estimated Number of Respondents/Recordkeepers: 1,700.

Estimated Burden Hours Per Respondent/Recordkeeper:

Recordkeeping | 28 hr., 13 min.
Learning about the law or the form | 35 min.
Preparing the form | 1 hr., 05 min.
Copying, assembling, and sending the form to the IRS | 16 min.

Frequency of Response: On occasion.

Estimated Total Reporting/Recordkeeping Burden: 50,830 hours.

OMB Number: 1545-0495.

Form Number: IRS Form 4506-A.

Type of Review: Extension.

Title: Request for Public Inspection or Copy of Exempt or Political Organization IRS Form.

Description: Internal Revenue Code section 6104 states that if an organization described in section 501(c) or (d) is exempt from taxation under section 501(a) for any taxable year, the application for exemption is open for public inspection. This includes all supporting documents, any letter or other documents issued by the IRS concerning the application, and certain annual returns of the organization. Form 4506-A is used to request public inspection or a copy of these documents.

Respondents: Business or other for-profit, Individuals or households, Not-for-profit institutions, Farms, Federal Government, State, Local or Tribal Government.

Estimated Number of Respondents/Recordkeepers: 20,000.

Estimated Burden Hours Per Respondent/Recordkeeper:

Recordkeeping | 6 min.
Learning about the law or the form | 7 min.
Preparing the form | 30 min.
Copying, assembling, and sending the form to the IRS | 16 min.

Frequency of Response: On occasion.

Estimated Total Reporting/Recordkeeping Burden: 20,400 hours.

OMB Number: 1545-1251.

Regulation Project Number: PS-5-91 Final.

Type of Review: Extension.

Title: Limitations on Percentage Depletion in the Case of Oil and Gas Wells.

Description: Section 1.613A-3(e)(6)(i) of the regulations requires each partner to separately keep records of the partner's share of the adjusted basis of partnership oil and gas property.

Respondents: Business or other for-profit.

Estimated Number of Recordkeepers: 1,500,000.

Estimated Burden Hours Per Recordkeeper: 2 minutes.

Estimated Total Recordkeeping Burden: 49,950 hours.

OMB Number: 1545-1814.

Form Number: IRS Form 1099-CAP.

Type of Review: Extension.

Title: Changes in Corporate Control and Capital Structure.

Description: Any corporation that undergoes reorganization under Regulation section 1.6043-4T with stock, cash, and other property over $100 million must file Form 1099-CAP with the IRS shareholders.

Respondents: Business or other for-profit, Individuals or households.

Estimated Number of Respondents: 350.

Estimated Burden Hours Per Respondent: 18 minutes.

Frequency of Response: Annually.

Estimated Total Reporting Burden: 105 hours.

Clearance Officer: Glenn Kirkland, Internal Revenue Service, Room 6411- 03, 1111 Constitution Avenue, NW, Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 03-13675 Filed 5-30-03; 8:45 am]

BILLING CODE 4830-01-P